DEPARTMENT OF THE INTERIOR

Fish and Wildlife Service

[FWS-R2-ES-2014-N230; FXES11130200000F5-156-FF02ENEH00]

Emergency Exemption; Issuance of Emergency Permit To Capture a Suspected Gray Wolf in the Area of the North Rim of the Grand Canyon, Arizona

AGENCY: Fish and Wildlife Service, Interior.

ACTION: Notice of issuance.

SUMMARY: The final rule to list the gray wolf as endangered throughout its range in the United States published in 1978. On October 6, 2014, a suspected gray wolf was seen wandering in the area of the North Rim of the Grand Canyon in Arizona. Deer hunting season is beginning in this area of Arizona, and it is believed that the wolf may be in danger of possible harm and could accidentally be shot either as a result of misunderstanding of status or misidentification. We, the U.S. Fish and Wildlife Service have, under an Endangered Species Act (ESA) permit, authorized qualified researchers to capture, draw blood, and possibly affix a brightly colored GPS radio collar on the suspect wolf and release it back into the general area where it was captured. It is essential for its safety to conduct these actions.

ADDRESSES: Documents and other information concerning the permit are available for review, subject to the requirements of the Privacy Act and Freedom of Information Act. Documents will be available for public inspection, by appointment only, during normal business hours at the U.S. Fish and Wildlife Service, 500 Gold Ave. SW., Room 6034, Albuquerque, NM 87103.

FOR FURTHER INFORMATION CONTACT: Susan Jacobsen, Chief, Division of Classification and Restoration, P.O. Box 1306, Albuquerque, NM 87103; (505) 248-6920.

SUPPLEMENTARY INFORMATION: Several agencies and individuals notified the U.S. Fish and Wildlife Service (Service) that a suspected gray wolf (Canis lupus) was wandering in the area of the North Rim of the Grand Canyon in Arizona. Without being able to trap and identify the animal, it is unknown as to whether it is a gray wolf or some type of wolf-dog hybrid. We believe it is in the animal's best interest, with the upcoming deer hunting season opening in this area of Arizona, to capture, affix a brightly colored radio collar (if it is found to be a gray wolf), and draw blood (to identify the species), to help protect the animal from harm. We, the Service, under an Endangered Species Act (16 U.S.C. 1531 et seq.) permit, have authorized the following researchers to conduct the above-mentioned activities for gray wolf in the North Rim of the Grand Canyon, Arizona.

Permit TE-676811

Applicant: U.S. Fish and Wildlife Service, Region 2, Regional Director Blanket Permit, Albuquerque, New Mexico.

We approved the applicant's request for an amendment to a current permit for research and recovery purposes to survey for, locate, capture, temporarily hold, draw blood, and radio collar, a gray wolf (Canis lupus) within the area of the North Rim of the Grand Canyon, Arizona.

This emergency permit is issued for the sole purpose of protecting the suspected gray wolf in Arizona. Any further authorization for surveys or research of the gray wolf will be processed separately.

Authority: 16 U.S.C. 1531 et seq.

Dated: October 30, 2014.
Joy E. Nicholopoulos,
Deputy Regional Director, Southwest Region, U.S. Fish and Wildlife Service.

[FR Doc. 2014-26457 Filed 11-5-14; 8:45 am]

BILLING CODE 4310-55-P